DEPARTMENT OF TRANSPORTATION

Federal Aviation Administration

Notice of Intent To Release Certain Properties From All Terms, Conditions, Reservations and Restrictions of a Quitclaim Deed Agreement Between the City of Vero Beach and the Federal Aviation Administration for the Vero Beach Regional Airport, Vero Beach, FL

AGENCY: Federal Aviation Administration (FAA), DOT.

ACTION: Request for Public Comment.

SUMMARY: The FAA hereby provides notice of intent to release certain airport properties 2.58 acres at the Vero Beach Regional Airport, Florida from the conditions, reservations, and restrictions as contained in a Quitclaim Deed agreement between the FAA and the Vero Beach Regional Airport, dated October 3, 1947. The City of Vero Beach dedicated a 2.58 acre tract along Airport Drive to become a Public Right-of-Way. This release will be retroactive for the improvements along the airport entrance roadway by the City of Vero Beach. The Fair Market Value (FMV) of this parcel has been determined to be $112,134.12.

Documents reflecting the Sponsor's request are available, by appointment only, for inspection at the Vero Beach Regional Airport and the FAA Airports District Office.

DATES: Comments are due on or before October 3, 2016.

ADDRESSES: Documents are available for review at the Vero Beach Regional Airport, P.O. Box 1389, 3400 Cherokee Drive, Vero Beach, FL 32961 and the FAA Airports District Office, 5950 Hazeltine National Drive, Suite 400, Orlando, FL 32822. Written comments on the Sponsor's request must be delivered or mailed to: Stephen Wilson, Program Manager, Orlando Airports District Office, 5950 Hazeltine National Drive, Suite 400, Orlando, FL 32822-5024.

In addition, a copy of any comments submitted to the FAA must be mailed or delivered to Mr. Eric Menger, Airport Director, Vero Beach Regional Airport, P.O. Box 1389, 3400 Cherokee Drive, Vero Beach, FL 32961-1389.

FOR FURTHER INFORMATION CONTACT: Stephen Wilson, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or modification” of a sponsor's Federal obligation to use certain airport land for non-aeronautical purposes.

Issued in Orlando, FL, on August 23, 2016.
Bart Vernace,
Manager, Orlando Airports District Office, Southern Region.

[FR Doc. 2016-21225 Filed 9-1-16; 8:45 am]

BILLING CODE 4910-13-P